DEPARTMENT OF HEALTH AND HUMAN SERVICES

Centers for Disease Control and Prevention

Request for Nominations of Candidates To Serve on the Interagency Committee on Smoking and Health, Centers for Disease Control and Prevention (CDC), Department of Health and Human Services (HHS)

The CDC is soliciting nominations for possible membership on the Interagency Committee on Smoking and Health (ICSH), Office on Smoking and Health (OSH).

The ICSH consists of five members appointed by the Secretary from physicians and scientists who represent private entities involved in informing the public about the health effects of smoking. The members are selected by the Secretary, HHS. The committee provides advice and guidance to the Secretary, HHS, and the Director, CDC regarding (a) coordination of all research and education programs and other activities within the Department and with other Federal, State, local and private agencies and (b) establishment and maintenance of liaison with appropriate private entities, Federal agencies, and State and local public health agencies with respect to smoking and health activities.

Nominations are being sought for individuals who have expertise and qualifications necessary to contribute to the accomplishment of the committee's objectives. More information is available on the ICSH, OSH Web site: http://www.cdc.gov/tobacco/ICSH/index.htm.

Nominees will be selected based on expertise in the field of tobacco control and multi-disciplinary expertise in public health. Additionally, desirable qualifications include: (1) Knowledge of emerging tobacco control policies and experience in analyzing, evaluating, and interpreting Federal, State and/or local health or regulatory policy; or (2) knowledge of emerging tobacco products and the evolving environment of tobacco control and expertise in developing or contributing to the development of policies and/or programs; or (3) familiarity of rapid and emerging surveillance systems that will allow for the timely evaluation of tobacco product regulation and/or the impact of tobacco control interventions.

Federal employees will not be considered for membership.

Members may be invited to serve for terms of up to four years. The U.S. Department of Health and Human Services policy stipulates that committee membership shall be balanced in terms of professional training and background, points of view represented, and the committee's function. In addition to a broad range of expertise, consideration is given to a broad representation of geographic areas within the U.S., with diverse representation of both genders, ethnic and racial minorities, and persons with disabilities. Nominees must be U.S. citizens, and cannot be full-time employees of the U.S. Government.

Candidates should submit the following items:

• Current curriculum vitae, including complete contact information (name, affiliation, mailing address, telephone number, email address).

• A letter of recommendation from person(s) not employed by the U.S. Department of Health and Human Services.

• A statement indicating the nominee's willingness to potentially serve as a member of the Committee.

Nominations should be submitted electronically or in writing, and must be postmarked by February 19, 2016 and sent to: Ms. Monica Swann, NCCDPHP, CDC, 395 E. Street SW., Room 9167, MS P06, Washington, DC 20024. (Email address: zqe0@cdc.gov). Telephone and facsimile submissions cannot be accepted.

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2016-02082 Filed 2-3-16; 8:45 am]

BILLING CODE 4163-18-P